DEPARTMENT OF COMMERCE

Bureau of Industry and Security

Amended Temporary Denial Order

Ribway Airlines Company Limited, 54 Kairaba Avenue, Kanifing Municipality, WRC, The Gambia

John Edward Meadows, 50 St. Leonards Road, Bexhill on Sea, East Sussex, TN40 1JB, United Kingdom

Jeffrey John James Ashfield, 50 St. Leonards Road, Bexhill on Sea, East Sussex, TN40 1JB, United Kingdom

moreJet Ltd., 60 Brackendale Road, Bournemouth, BH8 9HZ, United Kingdom, and Castle Malwood, Minstead, Lyndhurst, Hampshire, SO43 7PE, United Kingdom

Stefan Piotr Kondak, a/k/a Stefan Peter Kondak, 150 Broadway, Bournemouth, Dorset, BH6 4EC, United Kingdom, and 60 Brackendale Road, Bournemouth, BH8 9HZ, United Kingdom

Castle Malwood, Minstead, Lyndhurst, Hampshire, SO43 7PE, United Kingdom

AC AVIATIE UK Limited, f/k/a Bin Vali Aviation Limited, 50 St. Leonard's Road, Bexhill On Sea, East Sussex, TN40 1JB, United Kingdom

Respondents.

Pursuant to Section 766.24 of the Export Administration Regulations (the “Regulations” or “EAR”),¹ I hereby grant the request of the Office of Export Enforcement (“OEE”) to modify the January 19, 2016 Order Temporarily Denying the Export Privileges of Ribway Airlines Company Limited, John Edward Meadows, Jeffrey John James Ashfield, Af-Aviation Limited, and Andy Farmer, as I find it necessary to amend this temporary denial order (“TDO”) to add three parties and also to remove two parties named in the TDO as issued on January 19, 2016.

¹ The EAR are currently codified at 15 CFR parts 730-774 (2015). The EAR issued under the Export Administration Act of 1979, as amended 50 U.S.C. 4601-4623 (Supp. III 2015 (available at http://uscode.house.gov) (“EAA” or the “Act”). Since August 21, 2001, the Act has been in lapse and the President, through Executive Order 13222 of August 17, 2001 (3 CFR, 2001 Comp. 783 (2002)), which has been extended by successive Presidential Notices, the most recent being that of August 7, 2015 (80 FR 48,223 (Aug. 11, 2015)) has continued the Regulations in effect under the International Emergency Economic Powers Act (50 U.S.C. 1701, et seq. (2006 & Supp. IV 2010)).

I find it necessary in order to prevent an imminent violation of the Regulations and the TDO to add the following persons as respondents:

moreJet Ltd., 60 Brackendale Road, Bournemouth, BH8 9HZ, United Kingdom

Castle Malwood, Minstead, Lyndhurst, Hampshire, SO43 7PE, United Kingdom

Stefan Piotr Kondak, a/k/a Stefan Peter Kondak, 150 Broadway, Bournemouth, Dorset, BH6 4EC, United Kingdom

60 Brackendale Road, Bournemouth, BH8 9HZ, United Kingdom

Castle Malwood, Minstead, Lyndhurst, Hampshire, SO43 7PE, United Kingdom

AC AVIATIE UK Limited, f/k/a Bin Vali Aviation Limited, 50 St. Leonard's Road, Bexhill On Sea, East Sussex, TN40 1JB, United Kingdom

I also find based upon OEE's request and evidence obtained by OEE after issuance of the TDO on January 19, 2016, that the following parties should be removed from the TDO:

AF-Aviation Limited, Sebring House, 4 Newbridge Drive, Wolverhampton, WV6 ODF, United Kingdom

Andy Farmer, Sebring House, 4 Newbridge Drive, Wolverhampton, WV6 ODF, United Kingdom

I. Procedural History

On January 19, 2016, I signed the TDO, denying for 180 days the export privileges of Ribway Airlines Company Limited (“Ribway Airlines”), John Edward Meadows, Jeffrey John James Ashfield, Af-Aviation Limited, and Andy Farmer (Af-Aviation's director). The TDO was issued ex parte pursuant to Section 766.24(a), and went into effect upon issuance on January 19, 2016. The TDO was published in the Federal Register on January 26, 2016. 81 FR 4251 (Jan. 26, 2016).

The TDO issued based upon evidence presented by OEE concerning an attempt to ferry or reexport two Boeing 737 aircraft, with manufacturer serial numbers 26444 and 26458, respectively, from Romania to Iran without the U.S. Government authorization required by Sections 742.8 and 746.7 of the EAR.² As discussed further below, since the TDO issued on January 19, 2016, OEE has obtained evidence regarding the involvement of moreJet Ltd., Stefan Piotr Kondak (moreJet Ltd.'s director and co-founder), and AC AVIATIE UK Limited in the attempted reexport of the aircraft to Iran.

² Both Boeing 737s are subject to the EAR and are classified under Export Control Classification Number (“ECCN”) 9A991.b and are controlled for anti-terrorism reasons.

II. Temporarily Denying Export Privileges

A. Legal Standard

Pursuant to Section 766.24(b) of the Regulations, BIS may issue an order temporarily denying a Respondent's export privileges upon a showing that the order is necessary in the public interest to prevent an “imminent violation” of the Regulations. 15 CFR 766.24(b)(1). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that “the violation under investigation or charges is significant, deliberate, covert and/or likely to occur again, rather than technical or negligent [.]” Id. A “lack of information establishing the precise time a violation may occur does not preclude a finding that a violation is imminent, so long as there is sufficient reason to believe the likelihood of a violation.” Id.

B. OEE's Request To Add moreJet Ltd., Stefan Piotr Kondak, and AC AVIATIE UK Limited to the TDO

OEE has requested the addition of moreJet Ltd.—a United Kingdom-based company that holds itself out as providing flight operation services, ferry flights, airworthiness review certificates, flight crews, navigation, and fuel—and its director and co-founder Stefan Piotr Kondak (“Kondak”). OEE has presented evidence demonstrating that Kondak and his company were involved with the attempted reexports described in the TDO. The on-going investigation indicates that moreJet Ltd. was providing the aircrew, including Kondak as a pilot, that was to ferry or reexport the aircraft from Romania. Moreover, moreJet Ltd. and specifically Kondak acted as the aircraft owner's agent and/or representative in facilitating the attempted reexport of the aircraft from Romania.

Additionally, the January 19, 2016 TDO named John Edward Meadows as a denied person based upon his involvement with the attempted reexports. Evidence obtained subsequent to the issuance of the TDO has confirmed OEE's suspicions that John Edward Meadows' actions were taken in his capacity as a director of AC AVIATIE UK Limited. Multiple sources, including but not limited to the insurance policies and bills of sale for the aircraft, indicate AC AVIATIE UK Limited's ownership of both subject aircraft.³

³ AC AVIATIE UK Limited was formerly known as Bin Vali Aviation Limited. The aircraft insurance policies referenced in the January 19, 2016 TDO listed Bin Vali Aviation Limited, a United Kingdom-based company, as an insured party. United Kingdom corporate registration documents indicate that Bin Vali Aviation Limited changed its corporate name to AC AVIATIE UK Limited. Additional evidence now confirms that AC AVIATIE UK Limited/Bin Vali Aviation Limited purchased both aircraft from Malaysian Airlines.

Prior to issuance of the TDO, OEE did not have evidence establishing moreJet Ltd.'s or Kondak's relationship to the aircraft or role in the transaction. If the evidence presented in support of this modification had been available during consideration of the TDO, OEE would have sought to include moreJet and Kondak as denied persons at that time. Similarly, OEE also would have requested that AC AVIATIE UK Limited's export privileges be denied in its original request. Lastly, OEE has presented evidence that despite knowing of the TDO, moreJet Ltd. and Kondak have, as recently as February 26, 2016, continued their efforts to ferry or reexport the subject aircraft from Romania in violation of Regulations and the TDO.

Given the foregoing, the evidence presented by OEE supports its position that, absent the TDO and its inclusion of the three additional respondents, further attempts likely will be made to reexport the aircraft from Romania.

C. Findings

I find that the evidence presented by OEE demonstrates that a violation of the Regulations and TDO is imminent in both time and degree of likelihood and that adding moreJet Ltd., Stefan Piotr Kondak, and AC AVIATIE UK Limited to the TDO is needed to give notice to persons and companies in the United States and abroad that they should cease dealing with these additional parties in export and re-export transactions involving items subject to the EAR or other activities prohibited by the TDO. Doing so is consistent with the public interest to preclude future violations of the EAR. moreJet Ltd., Stefan Piotr Kondak, and AC AVIATIE UK Limited's export privileges are being temporarily denied on an ex parte basis without a hearing based upon BIS's showing of an imminent violation in accordance with Section 766.24 of the Regulations.

Finally, I find that Af-Aviation Limited and Andy Farmer should be removed from the TDO, based upon evidence obtained by OEE after issuance of the TDO on January 19, 2016.

It is therefore ordered:

First, that RIBWAY AIRLINES COMPANY LIMITED, 54 Kairaba Avenue, Kanifing Municipality, WCR, The Gambia; JOHN EDWARD MEADOWS, 50 St. Leonards Road, Bexhill on Sea, East Sussex, TN40 1JB, United Kingdom; JEFFREY JOHN JAMES ASHFIELD, 50 St. Leonards Road, Bexhill on Sea, East Sussex, TN40 1JB, United Kingdom; MOREJET LTD., 60 Brackendale Road, Bournemouth, BH8 9HZ, United Kingdom, and Castle Malwood, Minstead, Lyndhurst, Hampshire, SO43 7PE, United Kingdom; STEFAN PIOTR KONDAK, A/K/A STEFAN PETER KONDAK, 150 Broadway, Bournemouth, Dorset, BH6 4EC, United Kingdom, and 60 Brackendale Road, Bournemouth, BH8 9HZ, United Kingdom, and Castle Malwood, Minstead, Lyndhurst, Hampshire, SO43 7PE, United Kingdom; and AC AVIATIE UK LIMITED, F/K/A BIN VALI AVIATION LIMITED, 50 St. Leonard's Road, Bexhill On Sea, East Sussex, TN40 1JB, United Kingdom, and when acting for or on their behalf, any successors or assigns, agents, or employees (each a “Denied Person” and collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of a Denied Person any item subject to the EAR;

B. Take any action that facilitates the acquisition or attempted acquisition by a Denied Person of the ownership, possession, or control of any item subject to the EAR that has been or will be exported from the United States, including financing or other support activities related to a transaction whereby a Denied Person acquires or attempts to acquire such ownership, possession or control;

C. Take any action to acquire from or to facilitate the acquisition or attempted acquisition from a Denied Person of any item subject to the EAR that has been exported from the United States;

D. Obtain from a Denied Person in the United States any item subject to the EAR with knowledge or reason to know that the item will be, or is intended to be, exported from the United States; or

E. Engage in any transaction to service any item subject to the EAR that has been or will be exported from the United States and which is owned, possessed or controlled by a Denied Person, or service any item, of whatever origin, that is owned, possessed or controlled by a Denied Person if such service involves the use of any item subject to the EAR that has been or will be exported from the United States. For purposes of this paragraph, servicing means installation, maintenance, repair, modification or testing.

Third, that, after notice and opportunity for comment as provided in section 766.23 of the EAR, any other person, firm, corporation, or business organization related to a Denied Person by affiliation, ownership, control, or position of responsibility in the conduct of trade or related services may also be made subject to the provisions of this Order.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on Ribway Airlines Company Limited, John Edward Meadows, Jeffrey John James Ashfield, moreJet Ltd., Stefan Piotr Kondak, AC AVIATIE UK Limited, Af-Aviation Limited, and Andy Farmer, and shall be published in the Federal Register.

This Order is effective immediately and shall remain in effect until July 17, 2016, unless renewed in accordance with Section 766.24(d) of the Regulations.

Dated: March 1, 2016.
David W. Mills,
Assistant Secretary of Commerce for Export Enforcement.

[FR Doc. 2016-05218 Filed 3-8-16; 8:45 am]

BILLING CODE P